DEPARTMENT OF TRANSPORTATION

Federal Aviation Administration

13 CFR Part 71

[Docket No. FAA-2005-21703; Airspace Docket No. 05-ACE-19]

Modification of Class D and Class E Airspace; Topeka, Forbes Field, KS

AGENCY: Federal Aviation Administration (FAA), DOT.

ACTION: Direct final rule; request for comments; correction.

SUMMARY: This action corrects an error in the legal description of Class D airspace in a direct final rule, request for comments that was published in the Federal Register on Tuesday, July 12, 2005 (70 FR 39914).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 2005-21703 published on Tuesday, July 12, 2005 (70 FR 39914), modified Class D and Class E Airspace at Topeka, Forbes Field, KS. The phrase “This Class D airspace area is effective during the specific dates and times established in advance by a Notice to Airmen. The effective date and time will thereafter be continuously published in the Airport/Facility Directory.” was incorrectly deleted from the legal description of Class D airspace. This action corrects that error.

Accordingly, pursuant to the authority delegated to me, the error in the legal description of Class D Airspace, Topeka, Forbes Field, KS as published in the Federal Register Tuesday July 12, 2005 (70 FR 39914), (FR Doc. 2005-21703), is corrected as follows:

§ 71.1 [Corrected]

On page 39915, Column 2, at the end of the legal description of ACE KS D Topeka, Forbes Field, KS, add the phrase “This Class D airspace area is effective during the specific dates and times established in advance by the Notice to Airmen. The effective date and time will thereafter be continuously published in the Airport/Facility Directory.”

Issued in Kansas City, MO, on September 16, 2005.
Anthony D. Roetzel,
Acting Area Director, Western Flight Services Operations.

[FR Doc. 05-20179 Filed 10-6-05; 8:45 am]

BILLING CODE 4910-13-M